DEPARTMENT OF DEFENSE

Department of the Army, Corps of Engineers

33 CFR Part 334

United States Navy Restricted Area, Kennebec River, Maine

AGENCY: United States Army Corps of Engineers, DoD.

ACTION: Final rule.

SUMMARY: The U.S. Army Corps of Engineers is amending its regulations to establish a restricted area in waters adjacent to the Bath Iron Works Shipyard in Bath, Maine. This amendment will close off an open area all along the shipyard's piers down the west bank of the Kennebec River from the railroad bridge to the south end of the shipyard. The regulations are necessary to safeguard Navy vessels and United States Government facilities from sabotage and other subversive acts, accidents, or incidents of similar nature. These regulations are also necessary to protect the public from potentially hazardous conditions which may exist as a result of Navy use of the area.

EFFECTIVE DATE: May 28, 2002.

ADDRESSES: U.S. Army Corps of Engineers, ATTN: CECW-OR, 441 G Street, NW, Washington, DC 20314-1000.

FOR FURTHER INFORMATION CONTACT: Mr. Frank Torbett, Headquarters Regulatory Branch, Washington, DC at (202) 761-4618, or Mr. Richard Roach, Corps of Engineers, New England District, Regulatory Division, at (978) 318-8211 or (800) 343-4789.

SUPPLEMENTARY INFORMATION: Pursuant to its authorities in Section 7 of the Rivers and Harbors Act of 1917 (40 Stat. 266; 33 U.S.C. 1) and Chapter XIX, of the Army Appropriations Act of 1919 (40 Stat. 892; 33 U.S.C. 3) the Corps is amending the restricted area regulations in 33 CFR Part 334 by adding Section 334.45 to establish a restricted area in waters adjacent to the Bath Iron Works Shipyard at Bath, Maine.

Procedural Requirements

a. Review Under Executive Order 12866

This rule is issued with respect to a military function of the Defense Department and the provisions of Executive Order 12866 do not apply.

b. Review Under the Regulatory Flexibility Act

This rule has been reviewed under the Regulatory Flexibility Act (Pub. L. 96-354) which requires the preparation of a regulatory flexibility analysis for any regulation that will have a significant economic impact on a substantial number of small entities (i.e., small businesses and small governments). The Corps expects that the economic impact of this restricted area would have practically no impact on the public, no anticipated navigational hazard or interference with existing waterway traffic and accordingly, certifies that this proposal will have no significant economic impact on small entities.

c. Review Under the National Environmental Policy Act

The New England District has prepared an Environmental Assessment (EA) for this action. We have concluded, based on the minor nature of the proposed additional restricted area regulations, that this action will not have a significant impact to the quality of the human environment, and preparation of an Environmental Impact Statement (EIS) is not required. The EA may be reviewed at the New England District office listed at the end of FOR FURTHER INFORMATION CONTACT, above.

d. Unfunded Mandates Act

This rule does not impose an enforceable duty among the private sector and, therefore, is not a Federal private sector mandate and is not subject to the requirements of Section 202 or 205 of the Unfunded Mandates Act. We have also found under Section 203 of the Act, that small Governments will not be significantly and uniquely affected by this rulemaking.

e. Submission to Congress and the General Accounting Office

Pursuant to section 801(a)(1)(A) of the Administrative Procedure Act, as amended by the Small Business Regulatory Enforcement Fairness Act of 1996, the Army has submitted a report containing this Rule to the U.S. Senate, the U.S. House of Representatives, and the Comptroller General of the General Accounting Office. This Rule is not a major Rule within the meaning of Section 804(2) of the Administrative Procedure Act, as amended.

List of Subjects in 33 CFR Part 334

Danger zones, Marine safety, Navigation (water), Restricted Areas, Waterways.

For the reasons set out in the preamble, the Corps proposes to amend 33 CFR Part 334 as follows:

PART 334—DANGER ZONE AND RESTRICTED AREA REGULATIONS

1. The authority citation for part 334 continues to read as follows:

Authority: 33 U.S.C. 1 and 33 U.S.C. 3.

2. Section 334.45 is added to read as follows: § 334.45 Kennebec River, Bath Iron Works Shipyard, Naval Restricted Area, Bath, Maine.

(a) The area. The waters within a coffin shaped area on the west side of the river south of the Carlton (Route 1) highway bridge beginning on the western shore at latitude 43°54′40.7″ N, longitude 069°48′44.8″ W; thence easterly to latitude 43°54′ 40.7″ N, longitude 069°48′36.8″ W; thence southeasterly to latitude 43°54′10.4″ N, longitude 069°48′34.7″ W; thence southwesterly to latitude 43°53′55.1″ N, longitude 069°48′39.1″ W; thence westerly to latitude 43°53′55.1″ N, longitude 69°48′51.8″ W; thence northerly along the westerly shoreline to the point of origin.

(b) The regulation. All persons, swimmers, vessels and other craft, except those vessels under the supervision or contract to local military or Naval authority, vessels of the United States Coast Guard, and local or state law enforcement vessels, are prohibited from entering the restricted areas without permission from the Supervisor of Shipbuilding, USN Bath Maine or his authorized representative

(c) Enforcement. The regulation in this section, promulgated by the United States Army Corps of Engineers, shall be enforced by the, Supervisor of Shipbuilding, Conversion and Repair Bath, United States Navy and/or such agencies or persons as he/she may designate.

Dated: April 15, 2002.
Karen Durham-Aguilera,
Acting Chief, Operations Division, Directorate of Civil Works.

[FR Doc. 02-10123 Filed 4-24-02; 8:45 am]

BILLING CODE 3710-92-P